DEPARTMENT OF COMMERCE

Foreign-Trade Zones Board

[Order No. 1905]

Reorganization and Expansion of Foreign-Trade Zone 45 Under Alternative Site Framework, Portland, Oregon

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the Port of Portland, grantee of Foreign-Trade Zone 45, submitted an application to the Board (FTZ Docket B-3-2013, docketed 01/15/2013) for authority to reorganize and expand under the ASF with a service area of Clackamas, Multnomah and Washington Counties, Oregon, in and adjacent to the Portland, Oregon U.S. Customs and Border Protection port of entry, FTZ 45's existing Sites 1, 2, 3, 6 and new Site 9 would be categorized as magnet sites, and existing Site 7 would be categorized as a usage-driven site, acreage would be reduced at Site 2 and Sites 4, 5 and 8 would be removed from the zone;

Whereas, notice inviting public comment was given in the Federal Register (78 FR 4381-4382, 01/22/2013) and the application has been processed pursuant to the FTZ Act and the Board's regulations; and,

Whereas, the Board adopts the findings and recommendation of the examiner's report, and finds that the requirements of the FTZ Act and the Board's regulations are satisfied;

Now, therefore, the Board hereby orders:

The application to reorganize and expand FTZ 45 under the ASF is approved, subject to the FTZ Act and the Board's regulations, including Section 400.13, to the Board's standard 2,000-acre activation limit for the zone, to a five-year ASF sunset provision for magnet sites that would terminate authority for Sites 2, 3, 6 and 9 if not activated by June 30, 2018, and to a three-year ASF sunset provision for usage-driven sites that would terminate authority for Site 7 if no foreign-status merchandise is admitted for a bona fide customs purpose by June 30, 2016.

Signed at Washington, DC, this 27th day of June 2013.
Paul Piquado,
Assistant Secretary of Commerce for Import Administration, Alternate Chairman, Foreign-Trade Zones Board.
Attest:
Elizabeth Whiteman,
Acting Executive Secretary.

[FR Doc. 2013-16170 Filed 7-3-13; 8:45 am]

BILLING CODE P